DEPARTMENT OF COMMERCE

Foreign-Trade Zones Board

[Order No. 2012]

Grant of Authority; Establishment of a Foreign-Trade Zone, Under the Alternative Site Framework, Vancouver, Washington

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Port of Vancouver USA (the Grantee) has made application to the Board (B-29-2016, docketed May 4, 2016), requesting the establishment of a foreign-trade zone under the ASF with a service area of Clark County, Washington, within and adjacent to the Portland, Oregon U.S. Customs and Border Protection port of entry, and proposed Site 1 would be categorized as a magnet site;

Whereas, notice inviting public comment has been given in the Federal Register (81 FR 29251-29252, May 11, 2016) and the application has been processed pursuant to the FTZ Act and the Board's regulations; and,

Whereas, the Board adopts the findings and recommendations of the examiner's report, and finds that the requirements of the FTZ Act and the Board's regulations are satisfied;

Now, therefore, the Board hereby grants to the Grantee the privilege of establishing a foreign-trade zone, designated on the records of the Board as Foreign-Trade Zone No. 296, as described in the application, and subject to the FTZ Act and the Board's regulations, including Section 400.13, and to the Board's standard 2,000-acre activation limit.

Signed at Washington, DC, October 18, 2016.
Penny Pritzker,
Secretary of Commerce, Chairman and Executive Officer, Foreign-Trade Zones Board.
Andrew McGilvray,
Executive Secretary.

[FR Doc. 2016-26757 Filed 11-3-16; 8:45 am]

BILLING CODE 3510-DS-P